FEDERAL RESERVE SYSTEM

Change in Bank Control Notices, Acquisition of Shares of Bank or Bank Holding Companies; Correction

This notice corrects a notice (FR Doc. E9-17111 published on pages 35190 anbd 35191 of the issue for Monday, July 20, 2009.

Under the Federal Reserve Bank of Kansas City heading, the entry for Central Bancorp, Inc., Colorado Springs, Colorado, is revised to read as follows:

A. Federal Reserve Bank of Kansas City (Todd Offenbacker, Assistant Vice President) 1 Memorial Drive, Kansas City, Missouri 64198-0001:

1. Central Bancorp, Inc., Colorado Springs, Colorado; to become a bank holding company by acquiring 100 percent of the voting shares of Farmers and Stockmens Bank of Clayton, Clayton, New Mexico, and The Citizens National Bank of Akron, Akron, Colorado.

Applicant also has applied to retain voting shares of Elite Properties of America II, Inc.; CB&T Mortgage, LLC; and CB&T Wealth Management, all of Colorado Springs, Colorado; Corundum Trust Company, Sioux Falls, South Dakota, and thereby engage in, extending credit and servicing of loans, pursuant to section 225.28(b)(1); financial and investment advisory activities, pursuant to sections 225.28(b)(6)(i) and (b)(6)(v); and trust activities, pursuant to section 225.28(b)(5) of Regulation Y.

Comments on this application must be received by August 13, 2009.

Board of Governors of the Federal Reserve System, July 21, 2009.
Margaret McCloskey Shanks,
Associate Secretary of the Board.

[FR Doc. E9-17685 Filed 7-23-09; 8:45 am]

BILLING CODE 6210-01-S